DEPARTMENT OF ENERGY

Federal Energy Regulatory Commission

Combined Notice of Filings #1

March 5, 2010.

Take notice that the Commission received the following electric rate filings:

Docket Numbers: ER99-3168-011; ER04-994-007; ER04-659-012; ER04-657-012; ER04-660-012.

Applicants: Astoria Generating Company, LP, Boston Generating, LLC, Fore River Development, LLC, Mystic I, LLC, Mystic Development, LLC.

Description: Supplement to Clarify Quarterly Report Pursuant to 18 CFR Section 35.42(d) of Astoria Generating Company, LP, et al.

Filed Date: 03/04/2010.

Accession Number: 20100304-5081.

Comment Date: 5 p.m. Eastern Time on Thursday, March 25, 2010.

Docket Numbers: ER08-1317-007.

Applicants: California Independent System Operator Corporation.

Description: Q4 2009 Quarterly Report of the California Independent System Operator Corporation.

Filed Date: 01/29/2010.

Accession Number: 20100129-5183.

Comment Date: 5 p.m. Eastern Time on Monday, March 15, 2010.

Docket Numbers: ER09-1142-006.

Applicants: New York Independent System Operator Inc.

Description: New York Independent System Operator, Inc submits a compliance filing.

Filed Date: 02/25/2010.

Accession Number: 20100303-0216.

Comment Date: 5 p.m. Eastern Time on Thursday, March 18, 2010.

Docket Numbers: ER10-319-000.

Applicants: California Independent System Operator Corporation.

Description: California Independent System Operator Corporation submits errata to 3/1/2010 ISO's response.

Filed Date: 03/02/2010.

Accession Number: 20100303-0033.

Comment Date: 5 p.m. Eastern Time on Tuesday, March 23, 2010.

Docket Numbers: ER10-386-001.

Applicants: Midwest Independent Transmission System Operator, Inc.

Description: Midwest Independent Transmission System Operator, Inc submits Sub Second Sheet No. 800 et al. to FERC Electric Tariff, Fourth Revised Volume No. 1.

Filed Date: 03/04/2010.

Accession Number: 20100305-0205.

Comment Date: 5 p.m. Eastern Time on Thursday, March 25, 2010.

Docket Numbers: ER10-573-001.

Applicants: New York Independent System Operator, Inc.

Description: New York Independent System Operator, Inc. submits Compliance filing.

Filed Date: 03/04/2010.

Accession Number: 20100305-0204.

Comment Date: 5 p.m. Eastern Time on Thursday, March 25, 2010.

Docket Numbers: ER10-642-002; ER10-643-002.

Applicants: Algonquin Tinker Gen Co., Algonquin Northern Maine Gen Co.

Description: Algonquin Tinker Gen Co et al. submits the tariff sheets as Exhibits A (red-lines) and B (clean) with revised tariff number and sheet designations.

Filed Date: 03/04/2010.

Accession Number: 20100305-0203.

Comment Date: 5 p.m. Eastern Time on Thursday, March 25, 2010.

Docket Numbers: ER10-825-000.

Applicants: Day County Wind, LLC.

Description: Day County Wind, LLC submits application for authorization to make market-based sales of energy, capacity and certain ancillary services under a market-based rate tariff.

Filed Date: 03/04/2010.

Accession Number: 20100305-0211.

Comment Date: 5 p.m. Eastern Time on Thursday, March 25, 2010.

Docket Numbers: ER10-838-000.

Applicants: WSPP Inc.

Description: WSPP, Inc submits revised pages to Schedule Q of the WSPP Agreement to update the cost-based rate schedule of Arizona Public Service Company.

Filed Date: 03/04/2010.

Accession Number: 20100305-0202.

Comment Date: 5 p.m. Eastern Time on Thursday, March 25, 2010.

Docket Numbers: ER10-839-000.

Applicants: Midwest Independent Transmission System Operator, Inc.

Description: Midwest Independent Transmission System Operator, Inc submits Facilities Construction Agreement among Otter Tail Power Company et al.

Filed Date: 03/04/2010.

Accession Number: 20100305-0206.

Comment Date: 5 p.m. Eastern Time on Thursday, March 25, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-5651 Filed 3-15-10; 8:45 am]

BILLING CODE 6717-01-P